DEPARTMENT OF AGRICULTURE

Food and Nutrition Service

Agency Information Collection Activities: Proposed Collection; Comment Request—Special Supplemental Nutrition Program for Women, Infants and Children (WIC) Forms: FNS-698, FNS-699, and FNS-700; The Integrity Profile (TIP)

AGENCY: Food and Nutrition Service, USDA.

ACTION: Notice.

SUMMARY: In accordance with the Paperwork Reduction Act of 1995, this notice invites the general public and other public agencies to comment on proposed information collections.

DATES: Written comments on this notice must be received on or before February 27, 2012.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to: Debra Whitford, Director, Supplemental Food Programs Division, Food and Nutrition Service, U.S. Department of Agriculture, 3101 Park Center Drive, Room 520, Alexandria, VA 22302. Comments will also be accepted through the Federal eRulemaking Portal. Go to http://www.regulations.gov, and follow the online instructions for submitting comments electronically.

All responses to this notice will be summarized and included in the request for OMB approval, and will become a matter of public record.

FOR FURTHER INFORMATION CONTACT: Requests for additional information or copies of the information collection form and instructions should be directed to Joan Carroll, (703) 305-2746.

SUPPLEMENTARY INFORMATION:

Title: WIC Financial Management and Participation Report with Addendum.

OMB Number: 0584-0401.

Expiration Date: 02-29-2012.

Type of Request: Extension, without change, of a Currently Approved Collection.

Abstract: Each year, WIC State agencies administering the Special Supplemental Nutrition Program for Women, Infants and Children (WIC) are required by 7 CFR 246.12(j)(5) to submit to FNS an annual summary of the results of their vendor monitoring efforts in order to provide Congress, senior FNS officials, as well as the general public, assurance that every reasonable effort is being made to ensure integrity in the WIC Program. State agencies use the TIP web-based system to report the information. The number of State agencies reporting remains at 90, which includes 50 geographic State agencies, 34 Indian Tribal Organizations, the District of Columbia, Puerto Rico, Guam, American Samoa, the Commonwealth of the Northern Marianas, and the Virgin Islands. The reporting burden consists of three automated forms, the FNS-698, FNS-699 and FNS-700. The FNS-698 and FNS-699 are used to report State agency summary data, whereas the FNS-700 is used to capture information on each authorized WIC vendor. The number of vendors authorized by each WIC State agency varies from State to State. There are no changes in the burden hours associated with collection.

Estimate of Burden: Public reporting burden for this collection of information is estimated to average 0.42 hours per response, including the time for reviewing instructions, searching existing data sources, gathering and maintaining the data needed, and completing and reviewing the collection of information.

Affected Public: State and Tribal Agencies.

Respondent Type: Directors or Administrators of WIC state agencies.

Estimated Number of Respondents: 90 respondents.

Estimated Number of Responses per Respondent: One.

Estimated Total Annual Burden on Respondents: 38 hours.

Dated: December 21, 2011.
Audrey Rowe,
Administrator, Food and Nutrition Service.

[FR Doc. 2011-33241 Filed 12-27-11; 8:45 am]

BILLING CODE 3410-30-P